ENVIRONMENTAL PROTECTION AGENCY

[FRL-7534-4]

State of Wisconsin Prohibition on Marine Discharges of Vessel Sewage Into Waters of Lake Superior; Receipt of Petition and Tentative Determination

AGENCY: Environmental Protection Agency (EPA).

ACTION: Notice of tentative determination.

SUMMARY: Today's notice announces that, by letter dated June 24, 2003, the United States Environmental Protection Agency has tentatively determined that there is a reasonable availability of adequate facilities for the safe and sanitary removal and treatment of sewage from all vessels on the waters of Lake Superior under the jurisdiction of the State of Wisconsin.

DATES: Comments and views regarding this petition and EPA's tentative determination may be filed on or before August 21, 2003.

FOR FURTHER INFORMATION CONTACT: Irvin J. Dzikowski, United States Environmental Protection Agency, Region 5, Water Division WN-16J, 77 West Jackson Boulevard, Chicago, Illinois 60604, (312) 886-6100.

SUPPLEMENTARY INFORMATION: A petition to the Regional Administrator, EPA, dated February 28, 2003, was received from the Secretary, State of Wisconsin Department of Natural Resources, requesting a determination pursuant to section 312(f)(3) of the Clean Water Act (CWA), 33 U.S.C. 1322(f)(3) and 40 CFR 140.4(a) that there is a reasonable availability of adequate facilities for the safe and sanitary removal and treatment of sewage from all vessels on the waters of Lake Superior under the jurisdiction of the State of Wisconsin. There are 13 waterfront facilities that operate sanitary waste pumpout facilities and or dump stations in the proposed Wisconsin Waters Lake Superior No Discharge Area. In addition to the sanitary waste pumpout facilities, numerous shoreline restroom facilities are available at public boat launches, docks and parks. Commercial vessels use the facilities at the Port of Duluth Superior. On May 18, 2003, the State supplemented its petition with a “Greater Protection and Enhancement Certification.” Once the EPA determines that adequate facilities are available, the State of Wisconsin has the authority pursuant to section 312(f)(3) and 40 CFR 140.4(a), to completely prohibit the discharge from all vessels of any sewage, whether treated or not, into the waters of Lake Superior under its jurisdiction. The EPA hereby makes a tentative affirmative determination that adequate facilities for the safe and sanitary removal and treatment of sewage from all vessels are reasonably available in the Lake Superior area under the jurisdiction of the State of Wisconsin. A final determination on this matter will be made by the Regional Administrator following the 30 day period for public comment.

Dated: June 24, 2003.
Thomas V. Skinner,
Regional Administrator, Region 5.

[FR Doc. 03-18614 Filed 7-21-03; 8:45 am]

BILLING CODE 6560-50-P